DEPARTMENT OF TRANSPORTATION

Federal Aviation Administration

14 CFR Part 39

[Docket No. FAA-2012-0292; Directorate Identifier 2011-NM-056-AD; Amendment 39-16991; AD 2012-06-10]

RIN 2120-AA64

Airworthiness Directives; Airbus Airplanes

Correction

In rule document 2012-7008 appearing on pages 19071-19074 in the issue of March 30, 2012, make the following correction:

§ 39.13 [Corrected]

On page 19073, in § 39.13, beginning in the second column, in the 28th line from the bottom, remove the duplicate section “(g) Inspection and Corrective Action in Fuel Tank Areas” which ends in the third column, in the 24th line from the top.

[FR Doc. C1-2012-7008 Filed 4-5-12; 8:45 am]

BILLING CODE 1505-01-D